ENVIRONMENTAL PROTECTION AGENCY

40 CFR Part 52

[EPA-R09-OAR-2020-0136; FRL-10016-79-Region 9]

Air Plan Partial Approval and Partial Disapproval; California; San Diego

AGENCY: Environmental Protection Agency (EPA).

ACTION: Final rule.

SUMMARY: The Environmental Protection Agency (EPA) is taking final action to partially approve and partially disapprove revisions to the San Diego Air Pollution Control District (SDAPCD or “District”) portion of the California State Implementation Plan (SIP). These revisions concern the District's demonstration regarding reasonably available control technology (RACT) requirements and negative declarations for the 2008 ozone national ambient air quality standards (NAAQS or “standards”) in the San Diego ozone nonattainment area under the jurisdiction of the SDAPCD.

DATES: This rule will be effective on January 4, 2021.

ADDRESSES: The EPA has established a docket for this action under Docket ID No. EPA-R09-OAR-2020-0136. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Nancy Levin, EPA Region IX, 75 Hawthorne St., San Francisco, CA 94105. By phone: (415) 972-3848 or by email at levin.nancy@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On August 10, 2020 (85 FR 48127), the EPA proposed to partially approve and partially disapprove the California Air Resources Board's April 12, 2017 submittal of the 2008 Eight-Hour Ozone Reasonably Available Control Technology Demonstration for San Diego County (“2016 RACT SIP”).

Table 1—Submitted Document
Local agency | Document | Adopted | Submitted
SDAPCD | 2008 Eight-Hour Ozone Reasonably Available Control Technology Demonstration for San Diego County (“2016 RACT SIP”) | 12/14/16 | 4/12/2017

Our proposed action contains more information on the submittal and our evaluation.

II. Public Comments and EPA Responses

The EPA's proposed action provided a 30-day public comment period. During this period, we received two comments. One comment was supportive, and the other was not germane.

III. EPA Action

No comments were submitted that change our assessment of the 2016 RACT SIP as described in our proposed action. Therefore, we are finalizing a partial approval and partial disapproval of the 2016 RACT SIP. As authorized in sections 110(k)(3) and 301(a) of the CAA, the EPA is finalizing a partial disapproval of the 2016 RACT SIP with respect to those portions addressing the following source categories: Design Criteria for Stage I Vapor Control Systems—Gasoline Service Stations (EPA-450/R-75-102); Tank Truck Gasoline Loading Terminals (EPA-450/2-77-026); Manufacture of Synthesized Pharmaceutical Products (EPA-450/2-78-029); Industrial Cleaning Solvents (EPA-453/R-06-001); Fiberglass Boat Manufacturing Materials (EPA-453/R-08-004); Non-CTG major sources of VOC; and Miscellaneous Metal and Plastic Parts Coatings (EPA-453/R-08-003) Table 3—Plastic Parts and Products, Table 4—Automotive/Transportation and Business Machine Plastic Parts, Table 5—Pleasure Craft Surface Coating, and Table 6—Motor Vehicle Materials. As a result of the final partial disapproval, offset sanctions will be imposed unless the EPA approves a subsequent SIP revision that corrects the identified deficiencies within 18 months of the effective date of this action. Highway sanctions will be imposed unless the EPA approves a subsequent SIP revision that corrects the rule deficiencies within 24 months of the effective date of this action. These sanctions will be imposed under section 179 of the CAA and 40 CFR 52.31. Additionally, section 110(c) requires the EPA to promulgate a Federal implementation plan within 24 months unless we approve subsequent SIP revisions that correct the rule deficiencies.

As authorized in sections 110(k)(3) and 301(a) of the CAA, the EPA is finalizing a partial approval of the 2016 RACT SIP with respect to all remaining source categories, as proposed. The EPA is also finalizing an approval of the District's negative declarations as proposed.

IV. Statutory and Executive Order Reviews

Additional information about these statutes and Executive orders can be found at http://www.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 13771: Reducing Regulations and Controlling Regulatory Costs

This action is not an Executive Order 13771 regulatory action because this action is not significant under Executive Order 12866.

C. Paperwork Reduction Act (PRA)

This action does not impose an information collection burden under the PRA, because this SIP partial approval and partial disapproval does not in-and-of itself create any new information collection burdens, but simply partially approves and partially disapproves certain State requirements for inclusion in the SIP.

D. Regulatory Flexibility Act (RFA)

I certify that this action will not have a significant economic impact on a substantial number of small entities under the RFA. This action will not impose any requirements on small entities. This SIP partial approval and partial disapproval does not in-and-of itself create any new requirements but simply partially approves and partially disapproves certain pre-existing State requirements for inclusion in the SIP.

E. Unfunded Mandates Reform Act (UMRA)

This action does not contain any unfunded mandate as described in UMRA, 2 U.S.C. 1531-1538, and does not significantly or uniquely affect small governments. This action partially approves and partially disapproves pre-existing requirements under State or local law and imposes no new requirements. Accordingly, no additional costs to state, local, or tribal governments, or to the private sector, result from this action.

F. Executive Order 13132: Federalism

This action does not have federalism implications. It will not have substantial direct effects on the states, on the relationship between the National Government and the states, or on the distribution of power and responsibilities among the various levels of government.

G. Executive Order 13175: Coordination With Indian Tribal Governments

This action does not have tribal implications, as specified in Executive Order 13175, because the SIP revision that the EPA is partially disapproving would not apply on any Indian reservation land or in any other area where the EPA or an Indian tribe has demonstrated that a tribe has jurisdiction, and will not impose substantial direct costs on tribal governments or preempt tribal law. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive order. This action is not subject to Executive Order 13045 because this SIP partial approval and partial disapproval does not in-and-of itself create any new regulations, but simply partially approves and partially disapproves certain pre-existing State requirements for inclusion in the SIP.

I. Executive Order 13211: Actions That Significantly Affect Energy Supply, Distribution, or Use

This action is not subject to Executive Order 13211, because it is not a significant regulatory action under Executive Order 12866.

J. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

K. Executive Order 12898: Federal Actions To Address Environmental Justice in Minority Populations and Low-Income Populations

The EPA lacks the discretionary authority to address environmental justice in this rulemaking.

L. Congressional Review Act (CRA)

This action is subject to the CRA, and the EPA will submit a rule report to each House of the Congress and to the Comptroller General of the United States. This action is not a “major rule” as defined by 5 U.S.C. 804(2).

M. Petitions for Judicial Review

Under section 307(b)(1) of the Clean Air Act, petitions for judicial review of this action must be filed in the United States Court of Appeals for the appropriate circuit by February 1, 2021. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen dioxide, Ozone, Reporting and recordkeeping requirements, Volatile organic compounds.

Dated: November 10, 2020.
John Busterud,
Regional Administrator, Region IX.

For the reasons stated in the preamble, the Environmental Protection Agency amends part 52, chapter I, title 40 of the Code of Federal Regulations follows:

PART 52—APPROVAL AND PROMULGATION OF IMPLEMENTATION PLANS

1. The authority citation for part 52 continues to read as follows:

Authority: 42 U.S.C. 7401 et seq.

Subpart F—California

2. Section 52.220 is amended by adding paragraph (c)(547) to read as follows:

§ 52.220 Identification of plan—in part.

* * * * *

(c) * * *

(547) The following plan was submitted on April 12, 2017 by the Governor's designee.

(i) [Reserved]

(ii) Additional materials. (A) San Diego Air Pollution Control District.

(1) 2008 Eight-Hour Ozone Reasonably Available Control Technology Demonstration for San Diego County except those portions addressing the following source categories: Design Criteria for Stage I Vapor Control Systems—Gasoline Service Stations (EPA-450/R-75-102); Tank Truck Gasoline Loading Terminals (EPA-450/2-77-026); Manufacture of Synthesized Pharmaceutical Products (EPA-450/2-78-029); Industrial Cleaning Solvents (EPA-453/R-06-001); Fiberglass Boat Manufacturing Materials (EPA-453/R-08-004); Non-CTG major sources of VOC; and Miscellaneous Metal and Plastic Parts Coatings (EPA-453/R-08-003) Table 3—Plastic Parts and Products, Table 4—Automotive/Transportation and Business Machine Plastic Parts, Table 5—Pleasure Craft Surface Coating, and Table 6—Motor Vehicle Materials.

(2) [Reserved]

(B) [Reserved]

3. Section 52.222 is amended by adding paragraph (a)(5)(ii) to read as follows:

§ 52.222 Negative declarations.

(a) * * *

(5) * * *

(ii) The following negative declarations for the 2008 ozone NAAQS were adopted by the San Diego Air Pollution Control District on December 14, 2016, and submitted to the EPA on April 12, 2017.

Table 4 to Paragraph (a)(5)(ii)—Negative Declarations for the 2008 Ozone NAAQS
CTG document No. | CTG document title
EPA-450/2-77-008 | Control of Volatile Organic Emissions from Existing Stationary Sources—Volume II: Surface Coating of Cans, Coils, Paper, Fabrics, Automobiles, and Light-Duty Trucks (Automobiles, and light-duty truck coatings only).
EPA-450/2-77-025 | Control of Refinery Vacuum Producing Systems, Wastewater Separators, and Process Unit Turnarounds.
EPA-450/2-77-032 | Control of Volatile Organic Emissions from Existing Stationary Sources—Volume III: Surface Coating of Metal Furniture.
EPA-450/2-77-033 | Control of Volatile Organic Emissions from Existing Stationary Sources—Volume IV: Surface Coating of Insulation of Magnet Wire.
EPA-450/2-77-034 | Control of Volatile Organic Emissions from Existing Stationary Sources—Volume V: Surface Coating of Large Appliances.
EPA-450/2-78-030 | Control of Volatile Organic Emissions from Manufacture of Pneumatic Rubber Tires.
EPA-450/2-78-032 | Control of Volatile Organic Emissions from Existing Stationary Sources—Volume VII: Factory Surface Coating of Flat Wood Paneling.
EPA-450/2-78-036 | Control of Volatile Organic Compound Leaks from Petroleum Refinery Equipment.
EPA-450/3-82-009 | Control of Volatile Organic Compound Emissions from Large Petroleum Dry Cleaners.
EPA-450/3-83-006 | Control of Volatile Organic Compound Leaks from Synthetic Organic Chemical Polymer and Resin Manufacturing Equipment.
EPA-450/3-83-007 | Control of Volatile Organic Compound Equipment Leaks from Natural Gas/Gasoline Processing Plants.
EPA-450/3-83-008 | Control of Volatile Organic Compound Emissions from Manufacture of High-Density Polyethylene, Polypropylene, and Polystyrene Resins.
EPA-450/3-84-015 | Control of Volatile Organic Compound Emissions from Air Oxidation Processes in Synthetic Organic Chemical Manufacturing Industry.
EPA-450/4-91-031 | Control of Volatile Organic Compound Emissions from Reactor Processes and Distillation Operations in Synthetic Organic Chemical Manufacturing Industry.
EPA-453/R-97-004; 59 FR 29216 (6/6/94) | Control of Volatile Organic Compound Emissions from Coating Operations at Aerospace Manufacturing and Rework Operations; Aerospace MACT.
EPA-453/R-06-004 | Control Techniques Guidelines for Flat Wood Paneling Coatings.
EPA-453/R-07-004 | Control Techniques Guidelines for Large Appliance Coatings.
EPA-453/R-07-005 | Control Techniques Guidelines for Metal Furniture Coatings.
EPA-453/R-08-006 | Control Techniques Guidelines for Automobile and Light-Duty Truck Assembly Coatings.

* * * * *

4. Section 52.237 is amended by adding paragraph (b)(2) to read as follows:

§ 52.237 Part D disapproval.

(b) * * *

(2) San Diego Air Pollution Control District.

(i) RACT determinations for the following source categories in the submittal titled “2008 Eight-Hour Ozone Reasonably Available Control Technology Demonstration for San Diego County,” dated December 2016, as adopted December 14, 2016, and submitted on April 12, 2017.

(A) Design Criteria for Stage I Vapor Control Systems—Gasoline Service Stations (EPA-450/R-75-102).

(B) Tank Truck Gasoline Loading Terminals (EPA-450/2-77-026).

(C) Manufacture of Synthesized Pharmaceutical Products (EPA-450/2-78-029).

(D) Industrial Cleaning Solvents (EPA-453/R-06-001).

(E) Fiberglass Boat Manufacturing Materials (EPA-453/R-08-004).

(F) Non-CTG major sources of VOC.

(G) Miscellaneous Metal and Plastic Parts Coatings (EPA-453/R-08-003) Table 3—Plastic Parts and Products, Table 4—Automotive/Transportation and Business Machine Plastic Parts, Table 5—Pleasure Craft Surface Coating, and Table 6—Motor Vehicle Materials.

(ii) [Reserved]

[FR Doc. 2020-26649 Filed 12-2-20; 8:45 am]

BILLING CODE 6560-50-P